DEPARTMENT OF ENERGY

Federal Energy Regulatory Commission

[Project No. 7186-054]

Missisquoi, LLC; Notice of Reasonable Period of Time for Water Quality Certification Application

On April 9, 2025, Missisquoi, LLC submitted to the Federal Energy Regulatory Commission (Commission) documentation from the Vermont Department of Environmental Conservation (Vermont DEC) that it received a request for a Clean Water Act section 401(a)(1) water quality certification as defined in 40 CFR 121.5, from Missisquoi, LLC, in conjunction with the above captioned project on April 2, 2025. Pursuant to the Commission's regulations,¹ we hereby notify Vermont DEC of the following.

¹ 18 CFR 4.34(b)(5)(iii).

Date of Receipt of the Certification Request: April 2, 2025.

Reasonable Period of Time to Act on the Certification Request: One year, April 2, 2026.

If Vermont DEC fails or refuses to act on the water quality certification request on or before the above date, then the certifying authority is deemed waived pursuant to section 401(a)(1) of the Clean Water Act, 33 U.S.C. 1341(a)(1).

Dated: April 16, 2025.
Debbie-Anne A. Reese,
Secretary.

[FR Doc. 2025-06896 Filed 4-21-25; 8:45 am]

BILLING CODE 6717-01-P